COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete product(s) and service(s) from the Procurement List that were furnished by nonprofit agencies employing persons who are blind or have other severe disabilities.

DATES: Comments must be received on or before: July 29, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

8520-01-522-0833—Refill, Body and Hair Shampoo, Scented, 1000 mL

8520-01-522-0836—Refill, Body and Hair Shampoo, Scented, 800 mL

8520-01-522-0832—Refill, Body and Hair Shampoo, Scented, 2000 mL

8520-01-522-3885—Refill, Sanitizer, Hand, w/Aloe, 800 mL

8520-01-640-9622—Refill, Instant Hand Sanitizer, Foam, Skin Nourishing, Advanced Green Certified, 1200 ml

Designated Source of Supply: Travis Association for the Blind, Austin, TX

Contracting Activity: GSA/FSS GREATER SOUTHWEST ACQUISITI, FORT WORTH, TX

Service(s)

Service Type: Janitorial/Custodial.

Mandatory for: US Army Reserve, MG Guy B. Denit USARC, Marion, VA, 4444 Lee Highway, Marion, VA.

Designated Source of Supply: Mount Rogers Community Services Board, Wytheville, VA.

Contracting Activity: DEPT OF THE ARMY, W6QK ACC-PICA.

Service Type: Janitorial/Custodial

Mandatory for: US Army Reserve, Abingdon USARC, 1309 Continental Drive, Abingdon, MD

Designated Source of Supply: The Arc Northern Chesapeake Region, Incorporated, Aberdeen, MD

Contracting Activity: DEPT OF THE ARMY, W6QK ACC-PICA

Michael R. Jurkowski,
Deputy Director, Business Operations.

[FR Doc. 2021-14208 Filed 7-1-21; 8:45 am]

BILLING CODE 6353-01-P